FEDERAL COMMUNICATIONS COMMISSION

47 CFR Parts 0 and 68

[FCC 02-104]

Amendment of the Commission's Rules To Reflect the Commission's Recent Reorganization

AGENCY: Federal Communications Commission.

ACTION: Final rule.

SUMMARY: In this document, the Commission amends its rules pertaining to agency organization, procedure, and practice to reflect the Commission's Report and Order that privatized and streamlined the standards development and approval processes for terminal equipment regulated under part 68, and the Commission's Order that transferred enforcement of part 68 rules to the Enforcement Bureau.

DATES: Effective March 21, 2003.

FOR FURTHER INFORMATION CONTACT: Gayle Radley Teicher, Industry Analysis and Technology Division, Wireline Competition Bureau, voice 202-418-0940, fax 202-418-0520.

SUPPLEMENTARY INFORMATION: By this Order, the Federal Communications Commission (Commission) amends parts 0 and 68 of its rules to reflect the Commission's Report and Order, 66 FR 7579, January 24, 2001 that privatized and streamlined the standards development and approval processes for terminal equipment regulated under part 68, and the Commission's Order, 67 FR 13216, March 21, 2002 that transferred enforcement of part 68 rules to the Enforcement Bureau. Specifically, the Commission eliminates § 0.303 to reflect the transfer of authority for part 68 terminal equipment certification to private industry. In addition, the Commission amends § 0.91 to acknowledge the changed role of the Commission in the equipment certification process. Finally, the Commission amends certain additional rules to reflect the Commission's recent transfer of responsibility for enforcement regarding terminal equipment to the Enforcement Bureau.

In the part 68 Report and Order, the Commission eliminated significant portions of the rules governing the connection of customer premises equipment (or terminal equipment) to the public switched telephone network (PSTN). The part 68 Report and Order privatized the certification of terminal equipment and the development of technical criteria with which terminal equipment must comply to be connected with the PSTN. By these actions, the Commission minimized or eliminated the role of the federal government in these processes. Therefore, it is no longer necessary to delegate authority to the Wireline Competition Bureau to act upon applications for certification of terminal equipment, and the Commission eliminates § 0.303 accordingly. The Commission modifies § 0.91, however, to reflect that the Wireline Competition Bureau retains authority to consider appeals resulting from any failure of private industry to resolve issues pertaining to technical criteria for part 68 terminal equipment.

In light of recent transfer of part 68 enforcement responsibility to the Enforcement Bureau, the Commission also eliminates the specific part 68 complaint rules. Formal complaints against carriers for violations of part 68 will now be handled pursuant to the general rules regarding formal complaints against common carriers. This action will bring adjudication of such complaints into conformity with the Commission's other rules regarding complaints against common carriers. These rules will also apply to formal complaints against common carriers regarding hearing aid compatibility and volume control requirements. The Commission also amends § 68.211 of the rules to reflect that revocation of part 68 certification will now be handled by the Enforcement Bureau.

Procedural Matters

The modifications to parts 0 and 68 undertaken by this Order are rules that pertain to agency organization, procedure and practice. Consequently, the notice and comment provisions of the Administrative Procedure Act are inapplicable.

Ordering Clauses

Accordingly, it is ordered that, pursuant to section 5 of the Communications Act of 1934, as amended, 47 U.S.C. 155, parts 0 and 68 of the Commission's rules are amended effective March 21, 2003.

List of Subjects

47 CFR Part 0

Organization and functions, Reporting and recordkeeping requirements.

47 CFR Part 68

Administrative practice and procedures, Communications common carriers, Telecommunications, Enforcement.

Federal Communications Commission.
Marlene H. Dortch,
Secretary.

Rules Changes

For the reasons discussed in the preamble, the Federal Communications Commission amends 47 CFR parts 0 and 68 as follows:

PART 0—COMMISSION ORGANIZATION

1. The authority citation for part 0 continues to read as follows:

Authority: Secs. 5, 48 Stat. 1068, as mended; 47 U.S.C. 155.

2. Section 0.91 is amended by redesignating paragraphs (j) through (l) as paragraphs (k) through (m) and by adding new paragraph (j) to read as follows:

§ 0.91 Wireline Competition Bureau.

* * * * *

( j ) Act on petitions for de novo review of decisions of the Administrative Council for Terminal Attachments regarding technical criteria pursuant to § 68.614.

* * * * *

§ 0.303 [Removed and Reserved]

3. Section 0.303 is removed and reserved.

PART 68—CONNECTION OF TERMINAL EQUIPMENT TO THE TELEPHONE NETWORK

4. The authority citation for part 68 continues to read as follows:

Authority: 47 U.S.C. 154, 155 and 303.

5. Section 68.211 is amended by revising paragraph (b) to read as follows:

§ 68.211 Terminal equipment approval revocation procedures.

* * * * *

(b) Notice of intent to Revoke Interconnection Authority. Before revoking interconnection authority under the provisions of this section, the Commission, or the Enforcement Bureau under delegated authority, will issue a written Notice of Intent to Revoke Part 68 Interconnection Authority, or a Joint Notice of Apparent Liability for Forfeiture and Notice of Intent to Revoke Part 68 Interconnection Authority pursuant to §§ 1.80 and 1.89 of this chapter.

* * * * *

§§ 68.400 through 68.412 [Removed and Reserved]

6. Sections 68.400 through 68.412 are removed and reserved.

[FR Doc. 03-6781 Filed 3-20-03; 8:45 am]

BILLING CODE 6712-01-P